Proclamation 10025 of May 1, 2020

Public Service Recognition Week, 2020

By the President of the United States of America

A Proclamation

During Public Service Recognition Week, we pay tribute to our Federal, State, and local government employees for their unwavering dedication to civil service. On the front lines in times of prosperity and adversity alike, our world-class workforce remains ready and willing to serve their fellow Americans. At all levels of government, our civilian personnel have made our Nation stronger and more prosperous.

In recent weeks and months, our Nation's civilian officials have united with unprecedented urgency and resolve to respond to the coronavirus pandemic. Their tireless efforts are ensuring Federal, State, local, and tribal governments continue to provide necessary services to their constituents, are helping forge productive government-private sector partnerships, and are bolstering our ongoing recovery efforts. Our public health experts, who always play an integral role in protecting the health and wellbeing of our people, have provided critical and timely guidance to Americans on how to stay healthy and prevent the spread of the coronavirus. Emergency managers, first responders, and law enforcement are continuing to provide life-saving care, comfort, and support to those affected. Postal workers are delivering essential supplies and communications. Sanitation workers are keeping our communities clean. School teachers and educators are continuing to provide virtual education and support to students. And countless other public servants are diligently and humbly supporting our American way of life during this crisis. Through their dedicated efforts, the American people are protected and supported despite the unprecedented challenges we face.

As we start to see a promising forecast and eventual recovery—thanks in large part to the extraordinary sacrifices the American people have made on behalf of their fellow citizens—we can begin the critical work of reopening our country. We know that our public service employees will play a crucial role in restarting our economy and getting our society fully revitalized, while also protecting American lives. My Administration remains committed to supporting these men and women at all levels of government during this process, ensuring they have the resources and information they need to continue serving the American people while also safeguarding their own wellbeing. Together, we will complete the work of rebuilding and restoring our Nation.

This Public Service Recognition Week, we are especially grateful to our devoted public servants. Their experience, expertise, and commitment to service will lift our Nation up during these difficult times and help ensure a swift recovery. We will forever be indebted to them for their hard work, dedication, and courage, always remembering their irreplaceable contributions to our people and our country.

NOW, THEREFORE, I, DONALD J. TRUMP, President of the United States of America, by virtue of the authority vested in me by the Constitution and the laws of the United States, do hereby proclaim May 3 through May 9, 2020, as Public Service Recognition Week. I call upon Americans and all Federal, State, tribal, and local government agencies to recognize the dedication of our Nation's public servants and to observe this week through appropriate programs and activities.

IN WITNESS WHEREOF, I have hereunto set my hand this first day of May, in the year of our Lord two thousand twenty, and of the Independence of the United States of America the two hundred and forty-fourth.

[FR Doc. 2020-09972

Filed 5-6-20; 11:15 am]

Billing code 3295-F0-P